DEPARTMENT OF COMMERCE

National Oceanic and Atmospheric Administration

RIN: 0648-XB99

Fisheries of the South Atlantic; South Atlantic Fishery Management Council; Public Meeting; Addendum

AGENCY: National Marine Fisheries Service (NMFS), National Oceanic and Atmospheric Administration (NOAA), Commerce.

ACTION: Addendum to Earlier Notice - A Meeting of the South Atlantic Fishery Management Council; Agenda modification.

SUMMARY: The South Atlantic Fishery Management Council has modified its meeting agenda for its September 17-21, 2007 meeting to be held in N. Myrtle Beach, SC.

DATES: The meeting will take place September 17-23, 2007.

ADDRESSES: The meeting will be held at the Avista Resort, 300 N. Ocean Blvd, N. Myrtle Beach, SC 29582; telephone: (800) 968-8986 or (843) 249-2521.

FOR FURTHER INFORMATION CONTACT: Kim Iverson, Public Information Officer, South Atlantic Fishery Management Council, 4055 Faber Place Drive, Suite 201, North Charleston, SC 29405; telephone: (843) 571-4366 or toll free (866) SAFMC-10; fax: (843) 769-4520; email: kim.iverson@safmc.net.

SUPPLEMENTARY INFORMATION: The original notice published on August 14, 2007 (72 FR 45419).

The legal briefing on litigation (Closed Session) originally scheduled during the Council meeting on September 21, 2007 at 8 a.m. has been moved to September 18, 2007 at 1:30 p.m. as part of the Snapper Grouper Committee meeting. Because of this move, the Snapper Grouper Committee report to the Council originally scheduled for 8:15 a.m. on September 21, 2007 will begin instead at 8 a.m. on September 21, 2007.

Special Accommodations

These meetings are physically accessible to people with disabilities. Requests for auxiliary aids should be directed to the council office (see ADDRESSES) 3 days prior to the meetings.

Note: The times and sequence specified in this agenda are subject to change.

Dated: September 6, 2007.
Tracey L. Thompson,
Acting Director, Office of Sustainable Fisheries, National Marine Fisheries Service.

[FR Doc. E7-17833 Filed 9-10-07; 8:45 am]

BILLING CODE 3510-22-S